DEPARTMENT OF AGRICULTURE

Farm Service Agency

Stakeholder Listening Sessions on Heirs' Property

AGENCY: Farm Service Agency, USDA.

ACTION: Notice.

SUMMARY: The Farm Service Agency (FSA) is hosting two listening sessions for public input about the heirs' property relending program and heirs' property issues for landowners or farm operators providing proper documentation as the owner of the farm or land in order to obtain a farm number to be eligible for the FSA programs, as required by the Agriculture Improvement Act of 2018 (2018 Farm Bill). FSA is interested in your input and comments in resolving ownership and succession on farmland and undivided interest that has multiple owners. We invite you to participate in the listening session. The listening session is open to the public.

DATES:

Listening session: July 31, 2019, in Jackson, Mississippi beginning at 1:30 p.m. Central Standard Time; and August 14, 2019, in Washington, DC beginning at 1:30 p.m. Eastern Standard Time.

Registration: You must register by July 26, 2019, to attend the listening session in Jackson, Mississippi; and by August 9, 2019, in Washington, DC. You are encouraged to provide written comments prior to the listening session.

Oral comments (in writing): Submit your written comments by July 26, 2019 for Jackson, Mississippi attendances; and August 9, 2019 for Washington, DC attendances at www.regulations.gov.

Comments: For those orally presenting comments at the listening session, written comments are encouraged by July 26, 2019, for Jackson, Mississippi attendees and by August 9, 2019, for Washington, DC attendees.

Additional written comments will be accepted through August 31, 2019.

ADDRESSES:

Listening session: The meetings will be held at two locations:

a. Jackson, Mississippi: In the Farm Bureau Auditorium of the MS FSA State Office at 6311 Ridgewood Road, Jackson, MS 39211. Entry to the Farm Bureau Building is through the gates to the Main Visitor Entrance; visitor sign in is required.

b. Washington, DC: In Room 107-A of the Whitten Building at 1400 Independence Avenue SW, Washington, DC 20250. Entry to the Whitten Building for the listening session is through the front building entrance on Jefferson Drive; valid photo identification is required.

Registration: To register, click the registration link on https://www.fsa.usda.gov/programs-and-services/outreach-and-education/meeting-registration/index and follow the instructions.

Comments: We invite you to submit comments on this notice. In your comments, include the date, volume, and page number of this issue of the Federal Register, and the title of the notice.

You may submit comments by any of the following methods:

• Federal eRulemaking Portal: Go to http://www.regulations.gov and search for Docket ID FSA-2019-0010. Follow the online instructions for submitting comments.

• You may submit your written comments at the listening session.

All written comments received will be publicly available on www.regulations.gov.

FOR FURTHER INFORMATION CONTACT: J. Latrice Hill, phone (202) 690-1700 or email: fsaoutreach@wdc.usda.gov. Persons with disabilities who require alternative means for communication should contact the USDA Target Center at (202) 720-2600 (voice).

SUPPLEMENTARY INFORMATION: The listening session will provide an opportunity for stakeholders and interested members of the public to share their thoughts about how FSA can streamline and improve program delivery, as well as enhance outreach on FSA programs that address heirs' property issues. Heirs' property refers to land that has been passed down informally from generation to generation and is owned “in common” by all heirs, absent a will, regardless of whether they live on the land, pay the taxes or have ever visited the land. An heir is a person legally entitled to the property.

The listening session will begin with brief opening remarks from FSA. Individual speakers providing oral comments will be limited to 3-5 minutes each; however, if all speakers can be accommodated within the allotted time for the session, individual speaking times may be adjusted at the written request of the stakeholder (use the contact information above). As noted above, we request that speakers providing oral comments also provide a written copy of their comments by July 26, 2019, for the Mississippi listening session and August 9, 2019, for the DC listening session. All stakeholders and interested members of the public are welcome to register to provide oral and written comments; however, based on the session time or topic area constraints, FSA may not be able to allocate time for all registered attendees to provide oral comments during the sessions.

The purpose of the listening sessions is for FSA to hear from stakeholder organizations, producers and other interested members of the public about heirs' property issues and programs that are being implemented or revised by FSA as required by the 2018 Farm Bill (Pub. L. 115-334). Please refer to the name of the FSA program in your comment and the relevant section number in the 2018 Farm Bill. In your comments, provide your input about the program(s), changes, and anything else that may be helpful to FSA. We welcome public input that we can factor into decisions that need to be made to implement the provisions on heirs' property issues.

Date | Time | Location information
July 31, 2019 | 1:30 p.m. CST | MS FSA State Office, in the Farm Bureau Building, Farm Bureau Auditorium, 6311 Ridgewood Rd., Jackson, MS 39211.
August 14, 2019 | 1:30 p.m. EST | USDA headquarters, in the Whitten Building, Room 107-A, 12th Street and Jefferson Drive SW, Washington, DC 20250.

The following are specific program sections related to heirs' property issues in the 2018 Farm Bill (Agricultural Improvement Act of 2018, Pub. L. 115-379) (see listing below for complete section-by-section names):

• Relending programs to resolve ownership and succession of farmland (2018 Farm Bill section 5104, Title V Credit).

• Eligibility for operators on heirs' property land to obtain a farm number (2018 Farm Bill section 12615; Title XII Miscellaneous).

FSA is interested in all comments, but, requests input on:

1. What are some outreach methods FSA can implement to inform landowners of existing proof of ownership options available for heirs' property landowners?

2. What are additional proof of ownership options that FSA should consider accepting that are not currently allowed?

3. What changes to the process of obtaining a farm number would improve or simplify the process for individuals who may not able to provide certification?

4. What have been the greatest barriers to obtaining a farm number with FSA?

5. What are the potential challenges of an intermediary lender implementing the proposed Heirs' Property Relending Program?

6. What eligibility criteria should be considered when evaluating a potential intermediary lender?

7. Should there be a minimum or maximum amount of funds an intermediary lender can receive?

8. Should there be restrictions for the use of funds under the proposed Heirs' Property Relending Program?

9. What eligibility criteria should be considered for individual applicants in the proposed Heirs' Property Relending Program?

10. What are suggestions for how a lender might address minimum loan collateral requirements?

Instructions for Attending the Meeting

For Jackson, Mississippi attendance: Space for attendance at the listening session is limited. All persons wishing to attend the listening session must register at https://www.fsa.usda.gov/programs-and-services/outreach-and-education/meeting-registration/index by July 26, 2019. To register, information will be required including, but not limited to:

• Attendee contact information;

• Organization representation information; and

• If you would like to speak, provide written comments.

Upon arrival in the Visitor's Entrance of the Farm Bureau Building, registered persons must sign in to enter the building. Please allow extra time to get through security.

All written comments received will be publicly available on www.regulations.gov.

If you require special accommodations, such as a sign language interpreter, use the contact information above. The listening session location is accessible to persons with disabilities.

For Washington, DC attendance: Space for attendance at the listening session is limited. All persons wishing to attend the listening session must register at https://www.fsa.usda.gov/programs-and-services/outreach-and-education/meeting-registration/index by August 14, 2019. To register, information will be required, including, but not limited to:

• Attendee contact information;

• Company or organization representation information; and

• If you would like to speak, provide written comments.

Upon arrival at the front entrance of the USDA Whitten Building, registered persons must provide valid photo identification to enter. Please allow extra time to get through security.

All written comments received will be publicly available on www.regulations.gov.

If you require special accommodations, such as a sign language interpreter, use the contact information above. The listening session location is accessible to persons with disabilities.

Richard Fordyce,
Administrator, Farm Service Agency.

[FR Doc. 2019-15996 Filed 7-25-19; 8:45 am]

BILLING CODE 3410-05-P